DEPARTMENT OF THE INTERIOR

Bureau of Land Management

[MT-079-00-1020-XQ]

Resource Advisory Council Meeting, Butte, MT

AGENCY: Butte Field Office, Bureau of Land Management, DOI.

ACTION: Notice of meeting.

SUMMARY: The Western Montana Resource Advisory Council will convene at 9 a.m., Wednesday, March 1, 2000, at the Butte Field Office, 106 North Parkmont, Butte, Montana. Issues will include the statewide weed management steering committee, the Elkhorns Westslope Cutthroat Restoration Plan, an update on the Montana/Dakotas Off-Highway Vehicle environmental impact statement, and sage grouse habitat management.

The meeting is open to the public and written comments may be given to the Council. Oral comments may be presented to the Council at 11:30 a.m. The time allotted for oral comment may be limited, depending on the number of persons wishing to be heard. Individuals who plan to attend and need further information about the meeting, or who need special assistance, such as sign language or other reasonable accommodations, should contact Jean Nelson-Dean, Resource Advisory Coordinator, at the Butte Field Office, 106 North Parkmont (P.O. Box 3388), Butte, Montana 59702-3388, telephone 406-494-5059.

FOR FURTHER INFORMATION CONTACT: Acting Butte Field Manager Tim Bozorth or Jean Nelson-Dean at the above address or telephone number.

Dated: January 28, 2000.
Tim Bozorth,
Acting Field Manager.

[FR Doc. 00-3107 Filed 2-9-00; 8:45 am]

BILLING CODE 4310-DN-P-$$